DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. Additionally, OFAC is publishing an update to the identifying information of a person currently included in the list of Specially Designated Nationals and Blocked Persons. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On June 15, 2018, OFAC determined that the property and interests in property subject to U.S. jurisdiction of the following persons are blocked under the relevant sanctions authority listed below.

Individuals

1. AFRICAN TRANS INTERNATIONAL HOLDINGS B.V., Industrieweg 5, Nieuwkoop, Zuid-Holland 2421 LK, Netherlands; V.A.T. Number NL852496527B01; Branch Unit Number 000026703254 (Netherlands); Chamber of Commerce Number 57239169 (Netherlands); Legal Entity Number 852496527 (Netherlands) [GLOMAG] (Linked To: FLEURETTE PROPERTIES LIMITED).

Designated pursuant to section 1(a)(iii)(B) of Executive Order 13818 of December 20, 2017, “Blocking the Property of Persons Involved in Serious Human Rights Abuse or Corruption” (E.O. 13818) for being owned or controlled by, directly or indirectly, FLEURETTE PROPERTIES LIMITED, a person whose property and interests in property are blocked pursuant to E.O. 13818.

2. ALMERINA PROPERTIES LIMITED (a.k.a. ALMERINA INVESTMENTS), Virgin Islands, British [GLOMAG] (Linked To: ORIENTAL IRON COMPANY SPRL).

Designated pursuant to section 1(a)(iii)(B) of E.O. 13818 for being owned or controlled by, directly or indirectly, ORIENTAL IRON COMPANY SPRL, a person whose property and interests in property are blocked pursuant to E.O. 13818.

Also designated pursuant to section 1(a)(iii)(A)(2) of E.O. 13818 for having materially assisted, sponsored, or provided financial, material, or technological support for, or goods or services to or in support of, ORIENTAL IRON COMPANY SPRL, a person whose property and interests in property are blocked pursuant to E.O. 13818.

3. FLEURETTE AFRICA RESOURCES I B.V., Industrieweg 5, Nieuwkoop, Zuid-Holland 2421 LK, Netherlands; V.A.T. Number NL852496369B01; Branch Unit Number 000026702959 (Netherlands); Chamber of Commerce Number 57238812 (Netherlands); Legal Entity Number 852496369 (Netherlands) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

4. FLEURETTE AFRICAN TRANSPORT B.V., Industrieweg 5, Nieuwkoop, Zuid-Holland 2421 LK, Netherlands; V.A.T. Number NL852777978B01; Branch Unit Number 000027280888 (Netherlands); Chamber of Commerce Number 57883149 (Netherlands); Legal Entity Number 852777978 (Netherlands) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

5. FLEURETTE ENERGY I B.V., Industrieweg 5, Nieuwkoop, Zuid-Holland 2421 LK, Netherlands; V.A.T. Number NL852499097B01; Branch Unit Number 000026708302 (Netherlands); Chamber of Commerce Number 57244758 (Netherlands); Legal Entity Number 852499097 (Netherlands) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

6. INTERLOG DRC (a.k.a. INTERLOG S.P.R.L.; f.k.a. “BSD GROUP”; f.k.a. “BSD S.P.R.L.”), 532 Av. Chemin Public, Commune Annexe, Lubumbashi, Congo, Democratic Republic of the; 4013 Route Du Golf, Lubumbashi, Congo, Democratic Republic of the; Route CDM, Industrial Zone, Lubumbashi, Congo, Democratic Republic of the; Cassumbalessa Border, Congo, Democratic Republic of the; Industrial Quarter, Lusaka, Zambia; National ID No. 6-71-N7269D (Congo, Democratic Republic of the) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

7. IRON MOUNTAIN ENTERPRISES LIMITED (a.k.a. IRON MOUNTAIN ENTREPRISES; a.k.a. “IMEL”), Virgin Islands, British [GLOMAG] (Linked To: ORIENTAL IRON COMPANY SPRL).

Designated pursuant to section 1(a)(iii)(B) of E.O. 13818 for being owned or controlled by, directly or indirectly, ORIENTAL IRON COMPANY SPRL, a person whose property and interests in property are blocked pursuant to E.O. 13818.

Also designated pursuant to section 1(a)(iii)(A)(2) of E.O. 13818 for having materially assisted, sponsored, or provided financial, material, or technological support for, or goods or services to or in support of, ORIENTAL IRON COMPANY SPRL, a person whose property and interests in property are blocked pursuant to E.O. 13818.

8. KARIBU AFRICA SERVICES SA (a.k.a. KARIBU DRC; a.k.a. KARIBU WEST; f.k.a. MANICA DRC SPRL), Avenue Panda No. 790, Lubumbashi, Congo, Democratic Republic of the; Avenue Batetela No. 70, Kinshasa, Congo, Democratic Republic of the [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

9. KITOKO FOOD FARM (a.k.a. KITOKOFOOD, SPRL; a.k.a. LA FERME KITOKO FOOD; a.k.a. “KITOKO”), 70 Avenue Batetela, Immeuble Tilapia, 5e etage, Gombe, Kinshasa, Congo, Democratic Republic of the; Along the N'sele River 50km (30 miles) outside Kinshasa, Congo, Democratic Republic of the [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

10. MOKU GOLDMINES AG, Industrieweg 5, Nieuwkoop, Zuid-Holland 2421 LK, Netherlands; Branch Unit Number 000034883819 (Netherlands); Chamber of Commerce Number 66242010 (Netherlands); Legal Entity Number 856458879 (Netherlands) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

11. MOKU MINES D'OR SA (f.k.a. FERRO SWISS AG; a.k.a. MOKU GOLD; a.k.a. MOKU GOLD MINES; a.k.a. MOKU GOLDMINES AG; a.k.a. MOKU GOLDMINES LTD), Renggerstrasse 71, Zurich 8038, Switzerland; Registration Number CH27030140272 (Switzerland) [GLOMAG] (Linked To: FLEURETTE PROPERTIES LIMITED).

Designated pursuant to section 1(a)(iii)(B) of E.O. 13818 for being owned or controlled by, directly or indirectly, FLEURETTE PROPERTIES LIMITED, a person whose property and interests in property are blocked pursuant to E.O. 13818.

12. ORIENTAL IRON COMPANY SPRL (a.k.a. “ORICO”), 18 Avenue de la paix, Ngaliema, Kinshasa, Congo, Democratic Republic of the [GLOMAG] (Linked To: GERTLER, Dan).

Designated pursuant to section 1(a)(iii)(B) of E.O. 13818 for being owned or controlled by, directly or indirectly, DAN GERTLER, a person whose property and interests in property are blocked pursuant to E.O. 13818.

13. SANZETTA INVESTMENTS LIMITED, Virgin Islands, British [GLOMAG] (Linked To: ORIENTAL IRON COMPANY SPRL).

Designated pursuant to section 1(a)(iii)(B) of E.O. 13818 for being owned or controlled by, directly or indirectly, ORIENTAL IRON COMPANY SPRL, a person whose property and interests in property are blocked pursuant to E.O. 13818.

Also designated pursuant to section 1(a)(iii)(A)(2) of E.O. 13818 for having materially assisted, sponsored, or provided financial, material, or technological support for, or goods or services to or in support of, ORIENTAL IRON COMPANY SPRL, a person whose property and interests in property are blocked pursuant to E.O. 13818.

14. VENTORA DEVELOPMENT SASU, Congo, Democratic Republic of the [GLOMAG] (Linked To: AFRICA HORIZONS INVESTMENT LIMITED).

Designated pursuant to section 1(a)(iii)(B) of E.O. 13818 for being owned or controlled by, or having acted or purported to act for or on behalf of, directly or indirectly, AFRICA HORIZONS INVESTMENT LIMITED, a person whose property and interests in property are blocked pursuant to E.O. 13818.

Also designated pursuant to section 1(a)(iii)(A)(2) of E.O. 13818 for having materially assisted, sponsored, or provided financial, material, or technological support for, or goods or services to or in support of, AFRICA HORIZONS INVESTMENT LIMITED, a person whose property and interests in property are blocked pursuant to E.O. 13818.

Additionally, on June 15, 2018, OFAC updated the Specially Designated Nationals and Blocked Persons List entry for the following person, whose property and interests in property subject to U.S. jurisdiction continue to be blocked.

1. FLEURETTE PROPERTIES LIMITED (a.k.a. FLEURETTE DUTCH GROUP; a.k.a. FLEURETTE GROUP; a.k.a. GROUPE FLEURETTE; a.k.a. KARIBU AU DEVELOPMENT DURABLE AU CONGO; a.k.a. VENTORA MINING), Strawinskylaan 335, WTC, B-Tower 3rd floor, Amsterdam 1077 XX, Netherlands; Gustav Mahlerplein 60, 7th Floor, ITO Tower, Amsterdam 1082 MA, Netherlands; 70 Batetela Avenue, Tilapia Building, 5th floor, Kinshasa, Gombe, Congo, Democratic Republic of the; 57/63 Line Wall Road, Gibraltar GX11 1AA, Gibraltar; Public Registration Number 99450 (Gibraltar) [GLOMAG] (Linked To: GERTLER, Dan).

Dated: June 15, 2018.
Bradley T. Smith,
Acting Deputy Director, Office of Foreign Assets Control.

[FR Doc. 2018-13549 Filed 6-22-18; 8:45 am]

BILLING CODE 4810-AL-P